DEPARTMENT OF LABOR

Office of the Secretary

Proposed Collection of Information; Comment Request

ACTION: Notice of an opportunity for public comment.

SUMMARY: The Department of Labor, as part of its continuing effort to reduce paperwork and respondent burden, conducts a pre-clearance consultation program to provide the general public and Federal agencies with an opportunity to comment on proposed and/or continuing collections of information in accordance with the Paperwork Reduction Act of 1995 (PRA) [44 U.S.C. 3505(c)(2)(A)]. The program helps to ensure that requested data can be provided in the desired format, reporting burden (time and financial resources) is minimized, collection instruments are clearly understood, and the impact of the collection requirements on respondents can be properly assessed.

DATES: Written comments must be submitted by December 12, 2008.

ADDRESSES: A copy of the ICR and supporting documentation as submitted to the Office of Management and Budget (OMB) can be obtained by contacting the Department of Labor. To obtain copies, contact Amy Hobby on 202-693-4553 (this is not a toll-free number) or e-mail: hobby.amy@dol.gov. Send comments regarding this proposed collection of information, including suggestions for reducing the burden to the U.S. Department of Labor, GovBenefits Office, FPB, Room N-4309, Washington, DC 20210.

SUPPLEMENTARY INFORMATION:

I. Background

The President's Management Agenda for E-Government (February 27, 2002) sets forth a strategy for simplifying the delivery of services to citizens. The President's agenda outlines a Federal EGovernment Enterprise Architecture that will transition the management and delivery of government services from a bureaucracy-centered to a citizen centered paradigm. To this end, the Department of Labor serves as the managing partner of the Administration's “GovBenefits” strategy for assisting citizens in identifying and locating information on benefits sponsored by the Federal government and State governments. This tool will greatly reduce the burden on citizens attempting to locate services available from many different government agencies by providing one-stop access to information on obtaining those services. Respondents answer a series of questions to the extent necessary for locating relevant information on Federal benefits. Responses are used by the respondent to expedite the identification and retrieval of sought after information and resources pertaining to the benefits sponsored by the Federal government.

II. Current Action

Pursuant to the PRA implementing regulations at 5 CFR 1320.8(d)(1), this notice requests comments on the proposed information collection request discussed above in the Background section of this notice. OMB approval for this collection of information is currently scheduled to expire on January 31, 2009. This notice requests extended approval from OMB for the collection of information required for locating information on the GovBenefits Web site. Interested parties are encouraged to provide comments to the individual listed in the ADDRESSES section above.

III. Desired Focus of Comments

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Secretary.

Type of Review: Revision of an existing OMB Control 1290-0003.

Title of Collection: Information Collection Plan for GovBenefits.

OMB Control Number: 1290-0003.

Affected Public: Individuals or households, not for-profit institutions.

Estimated Number of Respondents: 6,345,715.

Frequency: On occasion.

Total Estimated Annual Responses: 6,345,715.

Estimated Average Time per Response: 5.5 minutes.

Estimated Total Annual Burden Hours: 581,691 hours.

Total Estimated Annual Cost Burden: $0.

Comments submitted in response to this notice will be summarized and may be included in the request for OMB approval of the final information collection request. The comments will become a matter of public record.

Signed at Washington, DC, this 14th day of October, 2008.
Edward C. Hugler,
Deputy Assistant Secretary for Administration and Management.

[FR Doc. E8-24787 Filed 10-17-08; 8:45 am]

BILLING CODE 4510-23-P